DEPARTMENT OF THE INTERIOR

Fish and Wildlife Service

Regional Habitat Conservation Plan, Williamson County, TX

AGENCY: Fish and Wildlife Service, Interior.

ACTION: Notice of intent to prepare an environmental impact statement (EIS); announcement of public scoping meeting; request for comments.

SUMMARY: We, the Fish and Wildlife Service (Service), advise the public that we intend to prepare an EIS to evaluate the impacts of, and alternatives to, the proposed issuance of an incidental take permit under the Endangered Species Act to Williamson County, Texas, and/or the Williamson County Conservation Foundation (Applicant). We also announce a public scoping meeting and public comment period.

DATES: We must receive written comments on alternatives and issues to be addressed in the EIS by July 14, 2007. We will hold a public scoping meeting on June 14, 2007, from 5:30 p.m. to 7:30 p.m. at the Williamson County Central Maintenance Facility, 3151 S.E. Inner Loop, Georgetown, Texas 78626. The primary purpose of this meeting and public comment period is to receive suggestions and information on the scope of issues and alternatives to consider when drafting the EIS. We will accept oral and written comments at this meeting. You may also submit your comments to the address listed below. Once the draft EIS and Williamson County Regional Habitat Conservation Plan (RHCP) are completed, additional opportunity for public comment on the content of these documents and an additional public meeting will be provided.

ADDRESSES: Send written comments by mail to the Field Supervisor, at U.S. Fish and Wildlife Service, 10711 Burnet Road, Suite 200, Austin, TX 78758, or by fax at 512/490-0974.

FOR FURTHER INFORMATION CONTACT: EIS Information: Mr. Scott Rowin, U.S. Fish and Wildlife Service, 10711 Burnet Road, Suite 200, Austin, TX 78758; 512/490-0057 (phone); 512/490-0974 (fax); or Scott_Rowin@fws.gov (e-mail).

Williamson County RHCP Information: Ms. Connie Watson, Public Information Officer, Williamson County Courthouse, 710 Main Street, Georgetown, TX 78626; 512/943-1663 (phone).

Other Information: You may obtain information on the purpose, membership, meeting schedules, and documents associated with the Williamson County RHCP on the Internet at http://www.wilco.org/wccf.

SUPPLEMENTARY INFORMATION: We intend to prepare an EIS to evaluate the impacts of, and alternatives to, the proposed issuance of an incidental take permit under the Endangered Species Act of 1973 (Act), as amended (16 U.S.C. 1531 et seq.), to the Applicant. We also announce a public scoping meeting and public comment period. The Applicant proposes to apply for an incidental take permit through development and implementation of the Williamson County RHCP, as required by the Act. The Williamson County RHCP will include measures necessary to minimize and mitigate the impacts of the proposed taking of federally-listed and candidate species, and the habitats upon which they depend. We furnish this notice in compliance with the National Environmental Policy Act of 1969 (NEPA), as amended (42 U.S.C. 4321 et seq.), and its implementing regulations (40 CFR 1500-1508) in order to: (1) Advise other Federal and State agencies, affected tribes, and the public of our intent to prepare an EIS; (2) announce the initiation of a public scoping period; and (3) obtain suggestions and information on the scope of issues and alternatives we will consider in our EIS. We intend to gather the information necessary to determine impacts and alternatives for an EIS regarding our potential issuance of an incidental take permit to the Applicant, and the implementation of the Williamson County RHCP. The Applicant will, to the maximum extent practicable, undertake to minimize and mitigate the impacts of such incidental take of federally protected species.

Purpose and Need for Action

Section 9 of the Act prohibits “taking” of fish and wildlife species listed as endangered or threatened under Section 4, such as the Bone Cave harvestman (Texella reyesi), Coffin Cave mold beetle (Batrisodes texanus), golden-cheeked warbler (Dendroica chrysoparia), and black-capped vireo (Vireo atricapilla). The term “take” under the Act means to harass, harm, pursue, hunt, shoot, wound, kill, trap, capture, or collect, or attempt to engage in any such conduct. Regulations define “harm” as significant habitat modification or degradation that results in death or injury to listed species by significantly impairing essential behavioral patterns, including breeding, feeding, or sheltering (50 CFR 17.3). We may however under specified circumstances issue permits that allow the take of federally listed species incidental to, and not the purpose of, the carrying out of otherwise lawful activities. Regulations governing permits for endangered and threatened species are at 50 CFR 17.22 and 17.32, respectively.

Section 10(a)(1)(B) of the Act contains provisions for issuing incidental take permits to non-Federal entities for the take of endangered and threatened species, provided the following criteria are met: (1) The taking will be incidental; (2) The applicant will, to the maximum extent practicable, minimize and mitigate the impact of such taking; (3) The applicant will develop a habitat conservation plan and ensure that adequate funding for the plan will be provided; (4) The taking will not appreciably reduce the likelihood of the survival and recovery of the species in the wild; and

(5) The applicant will carry out any other measures that we may require as being necessary or appropriate for the purposes of the habitat conservation plan.

We anticipate that the applicant will request permit coverage for a period of 30 years. Among other actions, implementation of the Williamson County RHCP will result in the establishment of a conservation lands system that the Applicant believes will provide for the conservation of the covered species and their habitats in perpetuity. Research and monitoring described in the Williamson County RHCP, in combination with adaptive management, will be used to facilitate accomplishment of these goals.

Proposed Action

Our proposed action is the issuance of an incidental take permit for the covered species in Williamson County. The Applicant would develop and implement the Williamson County RHCP, which must meet the requirements in section 10(a)(2)(A) of the Act by providing measures to minimize and mitigate the impacts of the actions on the proposed taking of covered species and the habitats upon which they depend.

Activities we propose for coverage under the incidental take permit include lawful activities that would occur consistent with the Williamson County RHCP conservation guidelines and include, but are not limited to, construction and maintenance of county operations and other public capital improvement projects, as well as residential, commercial, and/or industrial development.

We expect the applicant to apply for an incidental take permit for four species listed as endangered or threatened within the county. These species include the following federally-listed species: Bone Cave harvestman, Coffin Cave mold beetle, golden-cheeked warbler, and black-capped vireo.

The Williamson County RHCP will also address 24 additional species that will not be covered by the proposed incidental take permit nor would be covered if the species should be listed as endangered or threatened in the future. The purpose of addressing the additional species in the RHCP is to encourage efforts to minimize and mitigate impacts of permitted actions on these species, primarily to reduce the likelihood that any of them will need to be listed in the future. One currently listed species, the Tooth Cave ground beetle (Rhadine persephone), is included as an additional species because it may benefit from the conservation measures proposed in the RHCP. The additional species also include the following 19 non-listed karst invertebrate species: Aphrastochthonius sps, Arrhopalites texensis, Batrisodes cryptotexanus, Batrisodes reyesi, Cicurina browni, Cicurina buwata, Cicurina n.sp., Cicurina travisae, Cicurina vibora, Neoleptoneta anopica, Oncopodura fenestra, Rhadine n.sp., Rhadine noctivaga, Rhadine russelli, Rhadine subterranea mitchellii, Rhadine subterranea subterranea, Speodesmus bicornourus, and Tartarocreagris infernalis. Four salamander species are included as well: the Georgetown salamander (Eurycea naufragia) and Salado Springs salamander (Eurycea chisholmensis), both candidate species; the Jollyville Plateau salamander (Eurycea tonkawae), a species recently petitioned to be listed; and the Buttercup Creek salamander (Eurycea n.sp.), a salamander restricted to the Buttercup Creek drainage in Williamson County that has yet to be given a scientific name. The Applicant expects that numerous other non-listed species, for which the Applicant is not seeking permit coverage, may also benefit from the conservation measures provided in the Williamson County RHCP.

Alternatives

The proposed action and alternatives that will be developed in the EIS will be assessed against the No Action/No Project alternative, which assumes that some or all of the current and future projects proposed in Williamson County would be implemented individually, one at a time, and be in compliance with the Act. The No Action/No Project alternative implies that the impacts from these potential projects on the permitted species and their habitats would be evaluated and mitigated on a project-by-project basis, as is currently the case. For any activities involving take of listed species due to non-Federal projects/actions, individual Section 10(a)(1)(B) permits would be required. Without a coordinated, comprehensive ecosystem-based conservation approach for the region, listed species may not be adequately addressed by individual project-specific mitigation requirements, unlisted candidate and other rare species would not receive proactive action intended to preclude the need to list them in the future, and project-specific mitigation would be piecemeal and less cost effective in helping Federal and non-Federal agencies work toward recovery of listed species. Current independent conservation actions would continue, although some of these are not yet funded. A reasonable range of alternatives will also be considered, along with the associated impacts of the various alternatives.

Scoping Meeting

The purpose of the scoping meeting is to brief the public on the background of the Williamson County RHCP, alternative proposals under consideration for the draft EIS, and the Service's role and steps to be taken to develop the draft EIS for this regional habitat conservation planning effort. At the scoping meeting, there will be an opportunity for the public to ask questions, provide oral comments, and also provide written comments. The public may also send written comments to us by mail (see ADDRESSES above).

A primary purpose of the scoping process is to identify, rather than debate, significant issues related to the proposed action. In order to ensure that we identify a range of issues and alternatives related to the proposed action, we invite comments and suggestions from all interested parties. We will conduct a review of this project according to the requirements of NEPA, NEPA regulations, other appropriate Federal laws, regulations, policies, and guidance, and Service procedures for compliance with those regulations.

Public Availability of Comments

Before including your address, phone number, e-mail address, or other personal identifying information in your comment, you should be aware that your entire comment, including your personal identifying information, may be made publicly available at any time. While you can ask us in your comment to withhold your personal identifying information from public review, we cannot guarantee that we will be able to do so.

Environmental Review

We will conduct an environmental review that analyzes the proposed action, as well as a range of reasonable alternatives and the associated impacts of each. The EIS will be the basis for our evaluation of impacts to the covered species and the range of alternatives to be addressed. We expect the EIS to provide biological descriptions of the affected species and habitats, as well as the effects of the proposed action on resources such as: vegetation, wetlands, wildlife, threatened or endangered species and rare species, geology and soils, air quality, water resources, flood control, water quality, cultural resources (prehistoric, historic, and traditional cultural properties), land use, recreation, water use, local economy, and environmental justice.

After the environmental review is complete, we will publish a notice of availability and a request for comment on the draft EIS and the applicant's permit application, which will include the Williamson County RHCP.

The draft EIS and RHCP are expected to be completed and available to the public by October 2007.

Christopher T. Jones,
Acting Regional Director, Southwest Region, Albuquerque, New Mexico.

[FR Doc. E7-10576 Filed 5-31-07; 8:45 am]

BILLING CODE 4310-55-P